FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than March 2, 2001.

A. Federal Reserve Bank of Atlanta (Lois Berthaume, Vice President) 104 Marietta Street, N.W., Atlanta, Georgia 30303-2713:

1. David Allan King, Ernestine Ritter King, David Anderson King, Susan Morrison King, all of Philadelphia, Mississippi, Herbert Allan King and Nancy Higdon King, both of Starkville, Mississippi, and James Howard Briscoe and Carolyn King Briscoe, both of Jackson, Mississippi, to collectively retain 16.78 percent of the voting shares of Citizens Holding Company and its subsidiary bank, The Citizens Bank of Philadelphia, both of Philadelphia, Mississippi.

2. Donald Howard Kay, Jr., Martha Andrews Kay, Kyle Andrews Kay, and Rance Howard Kay, all of Ocala, Florida, to collectively retain 79.47 percent of the voting shares of ONB Financial Services, Inc., and its subsidiary bank, Ocala National Bank, both of Ocala, Florida.

B. Federal Reserve Bank of Chicago (Phillip Jackson, Applications Officer) 230 South LaSalle Street, Chicago, Illinois 60690-1414:

1. Harry Pike Schaller, Storm Lake, Iowa, to acquire 19.0 percent, totaling 39.8 percent, of the voting shares of FNC, Inc., Storm Lake, Iowa, and thereby indirectly acquire The First National Company, Citizens First National Bank, and The First Leasing Company, all of Storm Lake, Iowa, and FNT, San Antonio, Texas.

Board of Governors of the Federal Reserve System, February 9, 2001.
Robert deV. Frierson,
Associate Secretary of the Board.

[FR Doc. 01-3792 Filed 2-14-01; 8:45 am]

BILLING CODE 6210-01-P